DEPARTMENT OF TRANSPORTATION

Surface Transportation Board

[STB Finance Docket No. 33960]

The Central Illinois Railroad Company—Lease and Operation Exemption—Lines of The Burlington Northern and Santa Fe Railway Company at Chicago, Cook County, IL

The Central Illinois Railroad Company, a noncarrier, has filed a verified notice of exemption under 49 CFR 1150.31 to lease from The Burlington Northern and Santa Fe Railway Company (BNSF) approximately 5.9 miles of main line track and approximately 12.47 miles of sidetrack, collectively referred to as the Lumber District and Illinois Northern lines or portions thereof, in the vicinity of BNSF's Western Avenue Yard in Chicago, Cook County, IL.¹

¹ On November 20, 2000, a petition to stay the effective date of the exemption was filed by Joseph C. Szabo, on behalf of United Transportation Union-Illinois Legislative Board. The petition for stay was denied in The Central Illinois Railroad Company—Lease and Operation Exemption—Lines of The Burlington Northern and Santa Fe Railway Company at Chicago, Cook County, IL, STB Finance Docket No. 33960 (STB served Nov. 22, 2000).

The transaction was scheduled to be consummated no earlier than November 23, 2000, the effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33960, must be filed with the Surface Transportation Board, Office of the Secretary, Case Control Unit, 1925 K Street, NW., Washington, DC 20423-0001. In addition, a copy of each pleading must be served on Thomas F. McFarland, Jr., Esq., McFarland & Herman, 20 North Wacker Drive, Suite 1330, Chicago, IL 60606-2902.

Board decisions and notices are available on our website at http://www.stb.dot.gov.

Decided: November 27, 2000.
By the Board, David M. Konschnik, Director, Office of Proceedings.
Vernon A. Williams,
Secretary.

[FR Doc. 00-30655 Filed 12-4-00; 8:45 am]

BILLING CODE 4915-00-P